FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on July 6, 2010 (75 FR 38811) of the regular meeting of the Farm Credit Administration Board (Board) scheduled for July 8, 2010. This notice is to amend the agenda by adding an item to the open session of that meeting.

FOR FURTHER INFORMATION CONTACT: Roland E. Smith, Secretary to the Farm Credit Administration Board, (703) 883-4025, TTY (703) 883-4056.

ADDRESSES: Farm Credit Administration, 1501 Farm Credit Drive, McLean, Virginia 22102-5090.

SUPPLEMENTARY INFORMATION: Parts of this meeting of the Board will be open to the public (limited space available), and parts of this meeting will be closed to the public. The agenda for July 8, 2010, is amended by adding an item to the open session to read as follows:

Open Session

B. New Business

• Proposed Bookletter—Farm Credit System Bank Merger Applications.

Dated: July 7, 2010.
Roland E. Smith,
Secretary, Farm Credit Administration Board.

[FR Doc. 2010-16924 Filed 7-7-10; 4:15 pm]

BILLING CODE 6705-01-P